DEPARTMENT OF ENERGY

Federal Energy Regulatory Commission

[Docket No. ER00-3676-000]

PG&E Energy Trading-Power, L.P.; Notice of Filing

September 18, 2000.

Take notice tht on September 14, 2000, PG&E Energy Trading—Power, L.P. (PGET), tendered for filing pursuant to Section 205 of the Federal Power Act, 16 U.S.C. § 824d, an application seeking authorization for sale of electric energy and ancillary services to Pacific Gas & Electric Company (PG&E), an affiliate of PGET.

PGET states that it currently effective rate schedules do not provide for sales to PG&E. The purpose of the instant filing PGET states, is to enable PGET to make sales of energy and ancillary services to PG&E. In order to respond to a request for offers issued by PG&E on September 11, 2000, PGET asks for Commission action on its filing by no later than October 10, 2000, and proposes an effective date as the date of filing, but no later than October 10, 2000.

PGET states that it has served a copy of its filing on the California Public Utilities Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 2, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-24356 Filed 9-21-00; 8:45 am]

BILLING CODE 6717-01-M